DEPARTMENT OF ENERGY

Office of Energy Efficiency and Renewable Energy

Proposed Agency Information Collection

AGENCY: Office of Energy Efficiency and Renewable Energy, U.S. Department of Energy.

ACTION: Notice and Request for OMB Review and Comment.

SUMMARY: The Department of Energy (DOE) has submitted to the Office of Management and Budget (OMB) for clearance, a proposal for collection of information under the provisions of the Paperwork Reduction Act of 1995. The proposed collection will collect data from industry members in order to identify new and improved research capabilities and tools that would be valuable to the solar industry and opportunities for, and barriers to, national laboratory and industry collaboration on technology development and transfer in those high-value areas.

DATES: Comments regarding this collection must be received on or before October 26, 2016. If you anticipate that you will be submitting comments, but find it difficult to do so within the period of time allowed by this notice, please advise the DOE Desk Officer at OMB of your intention to make a submission as soon as possible. The Desk Officer may be telephoned at 202-395-4718.

ADDRESSES: Written comments should be sent to the DOE Desk Officer, Office of Information and Regulatory Affairs, Office of Management and Budget, New Executive Office Building, Room 10102, 735 17¹¹¹ Street NW., Washington, DC 20503.

And to

Linh Truong, National Renewable Energy Laboratory, Attn: Recipient's Name Mail Stop: RSF034, 15013 Denver West Parkway, Golden, CO 80401, or by fax at 303-630-2108, or by email at linh.truong@nrel.gov.

FOR FURTHER INFORMATION CONTACT: Craig Turchi, National Renewable Energy Laboratories, 303.384.7565, Craig.Turchi@nrel.gov.

SUPPLEMENTARY INFORMATION: This information collection request contains: (1) OMB No. “New”; (2) Information Collection Request Title: Concentrating Solar Power Solar Advisor Model (SAM) Industry Survey; (3) Type of Request: New collection; (4) Purpose: In an effort to improve the efficiency of Concentrating Solar Power (CSP) plants, this survey is necessary to collect data for the Department of Energy and the national labs from industry members in order to assess how the industry is using the SAM tool and its accuracy; (5) Annual Estimated Number of Respondents: 100; (6) Annual Estimated Number of Total Responses: 100; (7) Annual Estimated Number of Burden Hours: 25 Hours; (8) Annual Estimated Reporting and Recordkeeping Cost Burden: $45,000.

Statutory Authority: Energy Policy Act of 2005, 42 U.S.C. 16161.

Issued in Washington, DC, on September 16, 2016.
Elaine Ulrich,
Program Manager, Solar Energy Technologies Office.

[FR Doc. 2016-23101 Filed 9-23-16; 8:45 am]

BILLING CODE 6450-01-P